DEPARTMENT OF LABOR

Employment and Training Administration

[TA-W-64,129]

Broyhill Furniture Industries, Inc., Lenoir Chair #5, aka Taylorsville Plant, Including On-Site Leased Workers From Onin Staffing, Formerly Mulberry Group, Quick Temps/Temps USA and ESI Employment Staffing, Taylorsville, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 19, 2008, applicable to workers of Broyhill Furniture Industries, Inc., Lenoir Chair #5, aka Taylorsville Plant, Taylorsville, North Carolina. The notice was published in the Federal Register on December 10, 2008 (73 FR 75135).

At the request of a company official, the Department reviewed the certification for workers of the subject firm. The workers are engaged in the production of residential upholstered furniture.

New information shows that workers leased from Onin Staffing, formerly Mulberry Group, Quick Temps/Temps USA and ESI Employment Staffing were employed on-site at the Taylorsville, North Carolina location of Broyhill Furniture Industries, Inc., Lenoir Chair #5, aka Taylorsville Plant. The Department has determined that these workers were sufficiently under the control of Broyhill Furniture Industries, Inc., Lenoir Chair #5, aka Taylorsville Plant to be considered leased workers.

Based on these findings, the Department is amending this certification to include workers leased from Onin Staffing formerly Mulberry Group, Quick Temps/Temps USA and ESI Employment Staffing working on-site at the Taylorsville, North Carolina location of the subject firm.

The intent of the Department's certification is to include all workers employed at Broyhill Furniture Industries, Inc., Lenoir Chair #5, aka Taylorsville Plant who were adversely affected by increased imports of residential upholstered furniture.

The amended notice applicable to TA-W-64,129 is hereby issued as follows:

All workers of Broyhill Furniture Industries, Lenoir Chair #5, aka Taylorsville Plant, including on-site leased workers from Onin Staffing, formerly Mulberry Group, Quick Temps/Temps USA and ESI Employment Staffing, Taylorsville, North Carolina, who became totally or partially separated from employment on or after September 26, 2007 through November 19, 2010, are eligible to apply for adjustment assistance under Section 223 of the Trade Act of 1974, and are also eligible to apply for alternative trade adjustment assistance under Section 246 of the Trade Act of 1974.

Signed at Washington, DC, this 18th day of February 2009.
Elliott S. Kushner,
Certifying Officer, Division of Trade Adjustment Assistance.

[FR Doc. E9-4399 Filed 3-2-09; 8:45 am]

BILLING CODE 4510-FN-P